SECURITIES AND EXCHANGE COMMISSION

[Release No. 34-90916; SR-CBOE-2020-110]

Self-Regulatory Organizations; Cboe Exchange, Inc.; Notice of Withdrawal of a Proposed Rule Change Amending Rule 5.52(d) in Connection With a Market-Maker's Electronic Volume Transacted on the Exchange

January 13, 2021.

On November 13, 2020, Cboe Exchange, Inc. (the “Exchange” or “Cboe”) filed with the Securities and Exchange Commission (“Commission”), pursuant to Section 19(b)(1) of the Securities Exchange Act of 1934 (“Act”) ¹ and Rule 19b-4 thereunder,² a proposed rule change to change the electronic volume threshold trigger for continuous electronic quoting requirements for Market-Makers from one calendar quarter to two consecutive calendar quarters. The proposed rule change was published for comment in the Federal Register on November 30, 2020.³ The Commission has received no comment letters on the proposed rule change.

¹ 15 U.S.C. 78s(b)(1).

² 17 CFR 240.19b-4.

³ See Securities Exchange Act Release No. 90482 (November 23, 2020), 85 FR 76642 (November 30, 2020) (SR-CBOE-2020-110).

On January 13, 2021, the Exchange withdrew the proposed rule change (SR-CBOE-2020-110).

For the Commission, by the Division of Trading and Markets, pursuant to delegated authority.⁴
⁴ 17 CFR 200.30-3(a)(12).
J. Matthew DeLesDernier,
Assistant Secretary.

[FR Doc. 2021-01134 Filed 1-19-21; 8:45 am]

BILLING CODE 8011-01-P